DEPARTMENT OF TRANSPORTATION

Federal Aviation Administration

Notice of Intent of Waiver With Respect to Land; Gerald R. Ford International Airport, Grand Rapids, MI

AGENCY: Federal Aviation Administration (FAA), DOT.

ACTION: Notice.

SUMMARY: The FAA is considering a proposal to change approximately 16 acres of airport land from aeronautical use to non-aeronautical use and to authorize the lease of airport property located at Gerald R. Ford International Airport, Grand Rapids, Michigan. The aforementioned land is not needed for aeronautical use. The property is located to the northeast of the Patterson Avenue and Oostema Boulevard intersection. This intersection is the primary access to the airport. The property is currently vacant and not used for aeronautical purposes. The airport is proposing to lease this land for non-aeronautical development. Proposed uses include, restaurant, hotel, car wash, retail, and/or gas station.

DATES: Comments must be received on or before January 24, 2022.

ADDRESSES: Documents are available for review by appointment at the FAA Detroit Airports District Office, Robert Tykoski, Community Planner, 11677 S Wayne Road, Ste. 107, Romulus, MI Telephone: (734) 229-2900/Fax: (734) 229-2950 and Casey Ries, Engineering and Planning Director, Gerald R. Ford International Airport Authority, 5500 44th Street SE, Grand Rapids, MI Telephone: (616) 233-6040/Fax (616) 233-6025).

Written comments on the Sponsor's request must be delivered or mailed to: Robert Tykoski, Community Planner, Federal Aviation Administration, Detroit Airports District Office, 11677 S Wayne Road, Ste. 107, Romulus, MI 48187, Telephone Number: (737) 229-2900/FAX Number: (734) 229-2950.

FOR FURTHER INFORMATION CONTACT: Robert Tykoski, Community Planner, Federal Aviation Administration, Detroit Airports District Office, 11677 S Wayne Road, Ste. 107, Romulus, MI 48187. Telephone Number: (734) 229-2900/FAX Number: (734) 229-2950.

SUPPLEMENTARY INFORMATION: In accordance with section 47107(h) of Title 49, United States Code, this notice is required to be published in the Federal Register 30 days before modifying the land-use assurance that requires the property to be used for an aeronautical purpose.

The property is vacant and designated on the ALP as future non-aeronautical development. There are three parcels identified for this non-aeronautical use. They received Federal reimbursement through AIP grant #3-26-0039-2010. The sponsor proposes to allow non-aeronautical development, such as a hotel, gas station, retail, restaurant, and/or a car wash. The sponsor will receive fair market value for the lease of this property.

The disposition of proceeds from the lease of the airport property will be in accordance with FAA's Policy and Procedures Concerning the Use of Airport Revenue, published in the Federal Register on February 16, 1999 (64 FR 7696).

This notice announces that the FAA is considering the release of the subject airport property at the Gerald R. Ford International Airport, Grand Rapids, MI from its obligations to be maintained for aeronautical purposes. Approval does not constitute a commitment by the FAA to financially assist in the change in use of the subject airport property nor a determination of eligibility for grant-in-aid funding from the FAA.

Legal Description

PART OF THE SOUTH ½ OF THE SOUTHWEST ¼ OF SECTION 19, TOWN 6 NORTH, RANGE, 10 WEST, CASCADE TOWNSHIP, KENT COUNTY, MICHIGAN, DESCRIBED AS COMMENCING AT THE SOUTHWEST CORNER OF SAID SECTION 19, THEN N01°34′46″ W 108.94 FEET ALONG THE WEST SECTION LINE, THENCE N88°41′18″ E 75.00 FEET TO THE POINT OF BEGINNING; THENCE N01°34′46″ W 594.58 FEET PARALLEL TO THE WEST SECTION LINE, THENCE N89°30′25″ E 61.25 FEET; THENCE 166.27 FEET ALONG A 308 FOOT RADIUS CURVE TO THE RIGHT WHOSE LONG CHORD BEARS S75°01′40″ E 164.26 FEET; THENCE N89°30′25″ E 985.74 FEET; THENCE S01°18′46″ E 585.73 FEET TO THE NORTH RIGHT-OF-WAY FOR JOHN J. OOSTEMA BOULEVARD (44TH STREET); THENCE S89°30′25″ W 1164.93 FEET ALONG SAID NORTH RIGHT-OF-WAY LINE; THENCE N00°29′35″ W 35.53 FEET; THENCE S88°41′18″ W 37.49 FEET TO THE POINT OF BEGINNING.

THE DESCRIPTION ABOVE ENCOMPASSES 16.3 ACRES MORE OR LESS.

Issued in Romulus, Michigan, on December 17, 2021.
Stephanie Swann,
Acting Manager, Detroit Airports District Office, FAA, Great Lakes Region.

[FR Doc. 2021-27769 Filed 12-22-21; 8:45 am]

BILLING CODE 4910-13-P